DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On November 10, 2020, OFAC determined that the property and interests in property subject to U.S. jurisdiction of the following persons are blocked under the relevant sanctions authorities listed below.

Individuals

1. BANIHASHEMI, Mohammad (a.k.a. BANIHASHEMI CHAHAROM, Seyed Mohammad), No. 3, Mehr Alley, Kamran Alley, Bastan Alley, Firuzbakhsh Ave., Aghdasieh, Tehran 1957759678, Iran; DOB 26 Mar 1959; POB Mashhad, Iran; nationality Iran; Additional Sanctions Information—Subject to Secondary Sanctions; Gender Male; Passport B32563329 (Iran) expires 17 Dec 2019; National ID No. 0940486229 (Iran) (individual) [NPWMD] [IFSR] (Linked To: DES INTERNATIONAL CO., LTD.).

Designated pursuant to section 1(a)(iv) of Executive Order 13382 of June 28, 2005, 70 FR 38567, 3 CFR, 2006 Comp., p. 170 (E.O. 13382) for acting or purporting to act for or on behalf of, directly or indirectly, DES INTERNATIONAL CO., LTD., a person whose property and interests in property are blocked pursuant to E.O. 13382.

2. HUANG, Chin-Hua (a.k.a. HUANG, Jinee), Taiwan; DOB 08 Apr 1978; POB Taiwan; citizen Taiwan; Additional Sanctions Information—Subject to Secondary Sanctions; Gender Female; Passport 302114600 (Taiwan) expires 07 Oct 2020; Identification Number H222234242 (Taiwan) (individual) [NPWMD] [IFSR] (Linked To: DES INTERNATIONAL CO., LTD.).

Designated pursuant to section 1(a)(iii) of E.O. 13382 for having provided, or attempted to provide, financial, material, technological, or other support for, or goods or services in support of, DES INTERNATIONAL CO., LTD., a person whose property and interests in property are blocked pursuant to E.O. 13382.

3. SOLTANMOHAMMADI, Mohammad (a.k.a. SELTAN MOHAMMEDI, Mohammed; a.k.a. SULTAN MOHMADI, Mohhamad; a.k.a. WANG, Chung Lang; a.k.a. WANG, Chung Lung; a.k.a. WANG, Zhong-Lang), Apartment #1504, Fairooz Tower, Dubai Marina, Dubai, United Arab Emirates; 216 Ocean Drive, Sentosa Cove, Singapore 098622, Singapore; DOB 04 Nov 1960; POB Hamedan, Iran; nationality Iran; alt. nationality United Kingdom; Additional Sanctions Information—Subject to Secondary Sanctions; Gender Male; Passport 518015439 (United Kingdom) expires 07 Apr 2026; alt. Passport T96397867 (Iran); alt. Passport 038016890 (United Kingdom); alt. Passport 093045489 (United Kingdom); alt. Passport 093104973 (United Kingdom); alt. Passport 093234017 (United Kingdom); alt. Passport 099156908 (United Kingdom); alt. Passport U11283369 (Iran); alt. Passport S2760238Z; National ID No. S27602 (United Kingdom) (individual) [NPWMD] [IFSR] (Linked To: SOLTECH INDUSTRY CO., LTD.).

Designated pursuant to section 1(a)(iv) of E.O. 13382 for acting or purporting to act for or on behalf of, directly or indirectly, SOLTECH INDUSTRY CO., LTD., a person whose property and interests in property are blocked pursuant to E.O. 13382.

4. SUN, Shih Mei (a.k.a. SUN, Amber; a.k.a. SUN, Shi Mei; a.k.a. SUN, Shih-Mei; a.k.a. SUN, Shi-Mei), No. 12, Lane 85, Zhengyi Rd., Zhongli, Taoyuan, 325, Taiwan; DOB 23 Mar 1969; POB Taitung, Taiwan; nationality Taiwan; Additional Sanctions Information—Subject to Secondary Sanctions; Gender Female; Passport 211104130 (Taiwan); National ID No. V220335470 (Taiwan) (individual) [NPWMD] [IFSR] (Linked To: DES INTERNATIONAL CO., LTD.).

Designated pursuant to section 1(a)(iii) of E.O. 13382 for having provided, or attempted to provide, financial, material, technological, or other support for, or goods or services in support of, DES INTERNATIONAL CO., LTD., a person whose property and interests in property are blocked pursuant to E.O. 13382.

Entities

1. ARTIN SANA'AT TABAAN COMPANY (a.k.a. ARTIN SANAT TABAN; a.k.a. ARTIN SANAT TABAN CO; a.k.a. “SOLMATE”), 3rd Floor, No. 158, Keshavarz Str., Tehran, Iran; 1 North Bridge Road, #25-05, High Street Center, 179094, Singapore; #14, Bashardust Ave, Roudbare-Sharghie, Madar Sq., Shariati St., Mirdamad, Tehran, Iran; 404, 4th Floor, Atrium Centre, Bur-Dubai, Dubai, United Arab Emirates; P.O. Box 112724, Dubai, United Arab Emirates; Shariati Street, after MirDamand Blvd., Lushah Street, Rabie Street, Bashar Dost Alley, Plaque 14, Tehran, Iran; TWTC Rm., 6C-21(6F), No. 5, Hsin Yi Rd, Taipei, Taiwan; website http://solmatepciran.com; alt. website http://www.solmateco.com; Additional Sanctions Information—Subject to Secondary Sanctions; Registration Number 368623 (Iran) [NPWMD] [IFSR] (Linked To: DES INTERNATIONAL CO., LTD.).

Designated pursuant to section 1(a)(iii) of E.O. 13382 for having provided, or attempted to provide, financial, material, technological, or other support for, or goods or services in support of, DES INTERNATIONAL CO., LTD., a person whose property and interests in property are blocked pursuant to E.O. 13382.

2. DES INTERNATIONAL CO., LTD. (a.k.a. D.E.S. INTERNATIONAL; a.k.a. D.E.S. INTERNATIONAL CO. LTD.; a.k.a. DES INTERNATIONAL; a.k.a. DES INTERNATIONAL CO.; a.k.a. DES INTERNATIONAL COMPANY; a.k.a. DES INTERNATIONAL COMPANY LIMITED), Taiwan World Trade Centre, Rm. 6c-21 (6F), No. 5, Sec. 5, Xinyi Road, Taipei 11011, Taiwan; 1 North Bridge Road, #24-05 High Street Centre, Singapore 179094, Singapore; Suite 911, 9TH/F, Chuangjian Building, No.6023 Shennan Main Road, Futian District, Shenzhen, Guangdong, China; Unit 201, 2F Lung Fung Centre, No. 23 Yip Cheong Street, Fanling, N.T., Hong Kong, China; Sultan Belshalat Building, Shop #4, Ground Floor, B/H Admiral Plaza Hotel, Bur Dubai, Dubai, United Arab Emirates; P.O. Box 112724, United Arab Emirates; Sec. 5, Xinyi Rd., Xinyi District No. 5, Taipei City 110, Taiwan; 9FL-3, No. 375, Sec. 4, Sin Yi. Rd., Sin Yi Dist., Taipei 110, Taiwan; website www.des.com.tw; alt. website www.dscmmc.com; Additional Sanctions Information—Subject to Secondary Sanctions; Business Number 89402436 (Taiwan); Registration Number 69402436 (Taiwan) [NPWMD] [IFSR] (Linked To: SOLTANMOHAMMADI, Mohammad).

Designated pursuant to section 1(a)(iv) of E.O. 13382 for being owned or controlled by, MOHAMMAD SOLTANMOHAMMADI, a person whose property and interests in property are blocked pursuant to E.O. 13382.

3. HODA TRADING (a.k.a. HODA TRADING CO.; a.k.a. HODA TRADING COMPANY; a.k.a. SUSTAINABLE ELECTRONIC DEVELOPMENT; a.k.a. SUSTAINABLE ELECTRONICS DEVELOPMENT; a.k.a. SUSTAINABLE ELECTRONICS DEVELOPMENT COMPANY), No. 34, Shahid Hesari (Southern Razan) St., Mirdamad Avenue, Tehran, Iran; Langari Street, Nobonyad Square, Pasdaran Avenue, Tehran, Iran; No. 225 Teymori St., Langari—Nobonyad Ave., Tehran, Iran; No. 31, Across Nikan Hospital, Araj, Artesh Highway, Tehran, Iran; website www.sedfirm.com; Additional Sanctions Information—Subject to Secondary Sanctions [NPWMD] [IFSR] (Linked To: IRAN COMMUNICATION INDUSTRIES).

Designated pursuant to section 1(a)(iv) of E.O. 13382 for acting or purporting to act for or on behalf of, directly or indirectly, IRAN COMMUNICATION INDUSTRIES, a person whose property and interests in property are blocked pursuant to E.O. 13382.

4. NAZ TECHNOLOGY CO., LTD. (a.k.a. N.A.Z. TECHNOLOGY; a.k.a. NAZ TECHNOLOGY; a.k.a. NAZ TECHNOLOGY CO.; a.k.a. NAZ TECHNOLOGY CORPORATION LTD; a.k.a. “NAZ”), Taiwan World Trade Center (TWTC) Room 6C-21 (6F) Number 5 Section 5, Xinyi Road, Xinyi District, Taipei City, Taiwan; 605, Floor 6, Building 204, Tairan Technology Park, Tairan 6th Road, Tianan Community, Sha, Tou Sub-District, Futian District, Shenzhen, Guangdong, China; Building 10, Shiguan Industrial Park, Shenzhen 518106, China; C-608, Floor 6, Lan Optical Technology Building, No. 7, Xinxi Road, Hi-and-New Tech Part (North Zone), Nanshan District, Shenzhen, China; Rm. 804, Sino Centre, 582-592 Nathan Rd., KLN, Hong Kong, China; Additional Sanctions Information—Subject to Secondary Sanctions; Registration Number 440301503328703 (China) [NPWMD] [IFSR] (Linked To: SOLTANMOHAMMADI, Mohammad).

Designated pursuant to section 1(a)(iv) of E.O. 13382 for being owned or controlled by, MOHAMMAD SOLTANMOHAMMADI, a person whose property and interests in property are blocked pursuant to E.O. 13382.

5. PROMA INDUSTRY CO., LTD. (a.k.a. PROMA INDUSTRY CO.; a.k.a. PROMA INDUSTRY CO., LTD; a.k.a. PROMA INDUSTRY COMPANY; a.k.a. PROMA INDUSTRY COMPANY, LIMITED; a.k.a. PROMA INDUSTRY COMPANY, LTD.; a.k.a. “PROMA”; a.k.a. “PROMA INDUSTRY”), 1A, Fook Ying Building, 379 King's Road, North Point, Hong Kong, China; 3A, Fook Ying Building, 420 Kins Road, Hong Kong, China; Additional Sanctions Information—Subject to Secondary Sanctions; C.R. No. 4116 (Hong Kong) [NPWMD] [IFSR] (Linked To: HODA TRADING).

Designated pursuant to section 1(a)(iii) of E.O. 13382 for having provided, or attempted to provide, financial, material, technological, or other support for, or goods or services in support of, HODA TRADING, a person whose property and interests in property are blocked pursuant to E.O. 13382.

6. SOLTECH INDUSTRY CO., LTD. (a.k.a. SOLTECH INDUSTRIES COMPANY LTD.; a.k.a. SOLTECH INDUSTRY COMPANY, LTD; a.k.a. “SOLTECH”; a.k.a. “SOLTECH INDUSTRIES”; a.k.a. “SOLTECH INDUSTRY CO.”; a.k.a. “SOLTECH INDUSTRY COMPANY”), 1A, Fook Ying Building, 379 Kings Road, North Point, Hong Kong, China; Rm. 51, 5th Floor, Britannia House, Jalan Cator, Bandar Seri Begawan BS 8811, Brunei; Additional Sanctions Information—Subject to Secondary Sanctions; Company Number NBD/4116 (Brunei) [NPWMD] [IFSR] (Linked To: HODA TRADING).

Designated pursuant to section 1(a)(iii) of E.O. 13382 for having provided, or attempted to provide, financial, material, technological, or other support for, or goods or services in support of, HODA TRADING, a person whose property and interests in property are blocked pursuant to E.O. 13382.

Dated: November 10, 2020.
Andrea M. Gacki,
Director, Office of Foreign Assets Control, U.S. Department of the Treasury.

[FR Doc. 2020-25224 Filed 11-13-20; 8:45 am]

BILLING CODE 4810-AL-P